DEPARTMENT OF JUSTICE

Antitrust Division

Notice Pursuant to the National Cooperative Research and Production Act of 1993—Alliance for Sustainable Air Transportation

Notice is hereby given that, on January 5, 2009, pursuant to Section 6(a) of the National Cooperative Research and Production Act of 1993, 15 U.S.C. 4301 et seq. (“the Act”), Alliance for Sustainable Air Transportation (“ASAT”) has filed written notifications simultaneously with the Attorney General and the Federal Trade Commission disclosing changes in its membership. The notifications were filed for the purpose of extending the Act's provisions limiting the recovery of antitrust plaintiffs to actual damages under specified circumstances. Specifically, DayJet, Boca Raton, FL has withdrawn as a party to this venture.

No other changes have been made in either the membership or planned activity of the group research project. Membership in this group research project remains open, and ASAT intends to file additional written notifications disclosing all changes in membership.

On July 25, 2008, ASAT filed its original notification pursuant to Section 6(a) of the Act. The Department of Justice published a notice in the Federal Register pursuant to Section 6(b) of the Act on August 25, 2008 (73 FR 50055).

The last notification was filed with the Department on October 17, 2008. A notice was published in the Federal Register pursuant to Section 6(b) of the Act on November 21, 2008 (73 FR 70674).

Patricia A. Brink,
Deputy Director of Operations, Antitrust Division.

[FR Doc. E9-2595 Filed 2-6-09; 8:45 am]

BILLING CODE 4410-11-M